FEDERAL COMMUNICATIONS COMMISSION

[MB Docket No. 04-228; DA 04-2906]

Elimination of Market Entry Barriers for Small Telecommunications Businesses and Allocations of Spectrum-Based Services for Small Businesses and Businesses Owned by Women and Minorities

AGENCY: Federal Communications Commission.

ACTION: Notice, extension of comment period.

SUMMARY: In this document, the Media Bureau extends the period for comment and reply comment in this proceeding that seeks comment on constitutionally permissible ways for the Commission to further its legislative mandate to identify and eliminate market entry barriers for small telecommunications businesses and to further opportunities in the allocation of spectrum-based services for small businesses and businesses owned by women and minorities. The deadline to file comments is extended from September 10, 2004, to October 12, 2004, and the deadline to file reply comments is extended from October 8, 2004, to November 8, 2004. The action is taken to respond to a Motion for Extension of Time.

DATES: Comments are due on or before October 12, 2004, and reply comments are due on or before November 8, 2004.

ADDRESSES: Federal Communications Commission, Portals II, 445 12th Street, SW., Washington, DC 20554.

FOR FURTHER INFORMATION CONTACT: Julie Salovaara, Industry Analysis Division, Media Bureau, (202) 418-2330 or Julie.Salovaara@fcc.gov.

SUPPLEMENTARY INFORMATION: This is a synopsis of the Commission's Public Notice, DA-04-2906, in MB Docket No. 04-228, released on September 8, 2004. The full text of this Public Notice is available for inspection and copying during regular business hours in the FCC Reference Center, 445 Twelfth Street, SW., Room CY-A257, Portals II, Washington, DC 20554, and may also be purchased from the Commission's copy contractor, Best Company and Printing, Inc., Room CY-B402, telephone (800) 378-3160, http://www.bcpiweb.com. To request materials in accessible formats for people with disabilities (electronic files, large print, audio format and Braille), send an e-mail to fcc504@fcc.gov or call the Consumer & Governmental Affairs Bureau at (202) 418-0531 (voice), 418-7365 (TTY).

On June 15, 2004, the Media Bureau (“Bureau”) released a Public Notice seeking comment on constitutionally permissible ways to further the mandates of section 257 of the Telecommunications Act of 1996, 47 U.S.C. 257, which directs the Commission to identify and eliminate market entry barriers for small telecommunications businesses, and section 309(j) of the Communications Act of 1934, as amended, 47 U.S.C. 309(j), which requires the Commission to further opportunities in the allocation of spectrum-based services for small businesses and businesses owned by women and minorities.¹ The deadlines to file comments and reply comments were originally set as July 22, 2004, and August 6, 2004, respectively.² At the request of the Minority Media and Telecommunications Council (“MMTC”), the Bureau extended the comment deadline to September 10, 2004, and the reply comment deadline to October 8, 2004.³

¹ 69 FR 34672, June 22, 2004.

² Comment and Reply Comment Dates Set for Comments on Ways to Further Section 257 Mandate and to Build on Earlier Studies, Public Notice, MB Docket No. 04-228, DA 04-1758 (MB June 22, 2004).

³ 69 FR 42996, July 19, 2004.

MMTC now requests that these deadlines be further extended to October 10, 2004, for comments and to November 8, 2004, for reply comments.⁴ MMTC states that the three consultants it has engaged to assist with MMTC's comments need more time to complete their research and analyses, as the task has proved more complex than originally believed. Given the complexity of the legal issues involved, the heightened constitutional standards that apply, and our consequent interest in obtaining a rigorous and comprehensive analysis, we believe that granting MMTC's request for more time will serve the public interest. The new deadline to file comments will be October 12, 2004, and the new deadline to file reply comments will be November 8, 2004.⁵

⁴ MMTC Motion for Further Extension of Time (Sept. 7, 2004).

⁵ We are extending the comment deadline to October 12, 2004, because the date requested by MMTC, October 10, 2004, is a Sunday, and October 11, 2004, is a Federal holiday.

Federal Communications Commission.
Thomas L. Horan,
Legal Advisor, Media Bureau.

[FR Doc. 04-20904 Filed 9-14-04; 8:45 am]

BILLING CODE 6712-01-P